DEPARTMENT OF ENERGY

Federal Energy Regulatory Commission

[Docket No. ER02-898-000]

Arizona Public Service Company; Notice of Filing

February 1, 2002.

Take notice that on January 30, 2002, Arizona Public Service Company (APS) tendered for filing a Service Agreement to provide Network Integration Transmission Service under APS' Open Access Transmission Tariff to Pinnacle West Capital Corp. Marketing and Trading (Pinnacle) as the Scheduling Coordinator for APS.

A copy of this filing has been served on Pinnacle and the Arizona Corporation Commission.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission to determine the appropriate action to be taken, but will not serve to make protestants parties to the proceedings. Any person wishing to become a party must file a motion to intervene. All such motions and protests should be filed on or before the comment date and to the extent applicable, must be served on the applicant and on any other person designated on the official service list. This filing is available for review at the Commission or may be viewed on the Commission's Web site at http://www.ferc.gov using the “RIMS” link, select “Docket#” and follow the instructions (call 202-208-2222 for assistance). Protests and interventions may be filed electronically via the Internet in lieu of paper; see, 18 CFR 385.2001(a)(1)(iii) and the instructions on the Commission's Web site under the “e-Filing” link.

Comment Date: February 20, 2002.

Linwood A. Watson, Jr.,
Deputy Secretary.

[FR Doc. 02-3745 Filed 2-14-02; 8:45 am]

BILLING CODE 6717-01-P